DEPARTMENT OF COMMERCE

Foreign-Trade Zones Board

[S-137-2022]

Foreign-Trade Zone 61—San Juan, Puerto Rico; Application for Expansion of Subzone 61Z; Oldach Associates, LLC; Cataño, Puerto Rico

An application has been submitted to the Foreign-Trade Zones Board (the Board) by the Department of Economic Development and Commerce, grantee of FTZ 61, requesting an expansion of Subzone 61Z on behalf of Oldach Associates, LLC. The application was submitted pursuant to the provisions of the Foreign-Trade Zones Act, as amended (19 U.S.C. 81a-81u), and the regulations of the Board (15 CFR part 400). It was formally docketed on August 8, 2022.

Subzone 61Z was approved on June 9, 2020 (S-59-2020, 85 FR 35899, June 12, 2020). The subzone consists of the following site: Site 1 (2.4896 acres)—#427 PR-869, corner of D Street, Las Palmas Industrial Park, Cataño.

The applicant is requesting authority to expand the subzone's existing site to include an adjacent parcel (0.7046 acres) located at PR-869, Street 4, Building 2, Las Palmas Industrial Park, Cataño. The expanded subzone would be subject to the existing activation limit of FTZ 61. No authorization for production activity has been requested at this time.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is September 20, 2022. Rebuttal comments in response to material submitted during the foregoing period may be submitted during the subsequent 15-day period to October 5, 2022.

A copy of the application will be available for public inspection in the “Online FTZ Information Section” section of the FTZ Board's website, which is accessible via www.trade.gov/ftz.

For further information, contact Camille Evans at Camille.Evans@trade.gov.

Dated: August 8, 2022.
Andrew McGilvray,
Executive Secretary.

[FR Doc. 2022-17279 Filed 8-10-22; 8:45 am]

BILLING CODE 3510-DS-P